FEDERAL COMMUNICATIONS COMMISSION

47 CFR Parts 0, 4, and 12

[PS Docket Nos. 13-75 and 11-60; Report No. 3001]

Petition for Reconsideration of Action in Rulemaking Proceeding

AGENCY: Federal Communications Commission.

ACTION: Petition for reconsideration.

SUMMARY: In this document, a Motion for Clarification or, In the Alternative, Petition for Partial Reconsideration (Petition) has been filed in the Commission's Rulemaking proceeding by Intrado, Inc., on behalf of itself and its affiliate, Intrado Communications, Inc.

DATES: Oppositions to the Petition must be filed on or before March 27, 2014. Replies to an opposition must be filed on or before April 7, 2014.

ADDRESSES: Federal Communications Commission, 445 12th Street SW., Washington, DC 20554.

FOR FURTHER INFORMATION CONTACT: Eric P. Schmidt, Attorney Advisor, Public Safety and Homeland Security Bureau, (202) 418-1214 or eric.schmidt@fcc.gov<mailto:eric.schmidt@fcc.gov.>

SUPPLEMENTARY INFORMATION: This is a summary of Commission's document, Report No. 3001, released February 27, 2014. The full text of Report No. 3001 is available for viewing and copying in Room CY-B402, 445 12th Street SW., Washington, DC or may be purchased from the Commission's copy contractor, Best Copy and Printing, Inc. (BCPI) (1-800-378-3160).

Subject: Improving 9-1-1 Reliability; Reliability and Continuity of Communications Networks, Including Broadband Technologies, FCC 13-158, published at 79 FR 3123, January 17, 2014 and at 79 FR 7589, February 10, 2014, in PS Docket Nos. 13-75 and 11-60. Published pursuant to 47 CFR 1.429(e). See § 1.4(b)(1) of the Commission's rules.

Number of Petitions Filed: 1.

Federal Communications Commission.
Marlene H. Dortch,
Secretary, Office of the Secretary, Office of Managing Director.

[FR Doc. 2014-05261 Filed 3-11-14; 8:45 am]

BILLING CODE 6712-01-P